DEPARTMENT OF LABOR

Employment and Training Administration

[TA-W-36,841]

Sony Magnetic Products Inc. of America, Dothan, Alabama; Notice of Revised Determination on Reopening

By letter postmarked January 5, 2000, a company official requested administrative reconsideration of the Department's notice of negative determination regarding eligibility to apply for worker adjustment assistance applicable to workers of the subject firm.

On December 21, 1999, workers of Sony Magnetic Products Inc. of America producing VHS videocassettes were denied TAA eligibility based on the finding that criterion (3) of Section 222 of the worker group eligibility requirements of the Trade Act of 1974 was not met. The notice was published in the Federal Register on January 14, 2000 (65 FR 2432). A survey was conducted by the Department of the subject firms' major declining customers. None of the respondents increased import purchases while reducing business with Sony. Although Sony Magnetic Products Inc. of America was shifting production of VHS videocassettes from Dothan, Alabama to a foreign country, imports had not yet been returned to the U.S.

The Department has obtained new information from the company documenting that the company has received VHS videocassette imports and the reliance on imports will continue as production decreases at the Dothan, Alabama plant.

Conclusion

After careful consideration of the new facts obtained on reopening, it is concluded that increased imports of articles like or directly competitive with VHS videocassettes produced by the subject firm contributed importantly to the decline in sales and to the total or partial separation of workers of the subject firm. In accordance with the provisions of the Trade Act of 1974, I make the following revised determination:

“All workers of Sony Magnetic Products Inc. of America, Dothan, Alabama, engaged in employment related to the production of VHS videocassettes, separated from employment on or after September 2, 1998 through two years from the issuance of this determination, are eligible to apply for worker adjustment assistance under Section 223 of the Trade Act of 1974.”

Signed at Washington, DC this 24th day of January, 2000.
Grant D. Beale,
Program Manager, Office of Trade Adjustment Assistance.

[FR Doc. 00-2505 Filed 2-3-00; 8:45 am]

BILLING CODE 4510-30-M